LEGAL SERVICES CORPORATION

Sunshine Act Meetings

TIME AND DATE: The Legal Services Corporation (LSC) Board of Directors and its Audit, Institutional Advancement and Communications Subcommittee, Delivery of Legal Services, Finance, Combined Audit & Finance committees will hold their 2025 quarterly business meetings April 6-7, 2025. On Sunday, April 6, the first meeting will begin at 12:45 p.m. ET, with the next meeting commencing promptly upon adjournment of the immediately preceding meeting. On Monday, April 7, the first meeting will begin at 9:00 a.m. ET, with the next meeting commencing promptly upon adjournment of the immediately preceding meeting.

PLACE: LSC will conduct its April 6-7, 2025, meetings at the Legal Services Corporation offices, 1825 I (Eye) Street NW, Suite 800, Washington, DC 20006.

Public Observation: Unless otherwise noted herein, the Board and all committee meetings will be open to public observation. Members of the public wishing to observe the meetings in person must register in advance by sending an email to helpdesk@lsc.gov by no later than 5:00 p.m. Eastern on Thursday, April 3, 2025.

STATUS: Open, except as noted below.

Audit Committee—Open, except that, upon a vote of the Board of Directors, the meeting may be closed to the public to receive a briefing by the Office of Compliance and Enforcement on active enforcement matter(s); follow up on open investigation referrals to and from the Office of Inspector General (ACC § VIII A (5)); and receive briefings by LSC Management regarding significant grantee oversight activities.

Institutional Advancement Committee and Communications Subcommittee—Open, except that, upon a vote of the Board of Directors, the meeting may be closed to the public to receive a Development Report and consider and act on a Motion to Approve Leaders Council and Emerging Leaders Council Invitees.

Delivery of Legal Services Committee—Open, except that, upon a vote of the Board of Directors, the meeting may be closed to the public to receive a briefing on service area configuration.

Combined Audit & Finance Committees—Open, except that, upon a vote of the Board of Directors, the meeting may be closed to the public to receive an opportunity to ask Auditors questions without management present and communication by Corporate Auditor with those charged with Governance Under Auditing Standard 114.

Board of Directors—Open, except that, upon a vote of the Board of Directors, a portion of the meeting may be closed to the public to receive briefings from Management and the Inspector General; to consider and act on the General Counsel's report on potential and pending litigation and spending on outside legal counsel; to consider and act on a request to modify LSC's line of credit agreement; and to consider and act on a list of prospective Leaders Council and Emerging Leaders Council members.

Any portion of the closed session consisting solely of briefings does not fall within the Sunshine Act's definition of the term “meeting” and, therefore, the requirements of the Sunshine Act do not apply to such portion of the closed session.¹

¹ 5 U.S.C. 552b(a)(2) and (b). See also 45 CFR 1622.2 & 1622.3.

A verbatim written transcript will be made of the closed sessions of the Audit, Institutional Advancement and Communications Subcommittee, Delivery of Legal Services, Combined Audit & Finance, and the Board of Directors meetings. The transcript of any portions of the closed sessions falling within the relevant provisions of the Government in the Sunshine Act, 5 U.S.C. 552b(c)(6), (7), (9) and (10), will not be available for public inspection. A copy of the General Counsel's certification that, in his opinion, the closing is authorized by law will be available upon request.

MATTERS TO BE CONSIDERED:

Meeting Schedule

Sunday, April 6, 2025

Start Time 12:45 p.m. ET

Audit Committee

Portions Open to the Public

1. Approval of Agenda

2. Approval of Minutes of the Committee's Open Session Meeting on January 27, 2025

3. Briefing by the Office of Inspector General, to include:

a. Update on key activities and accomplishments over the last quarter, and overview of plans and key priorities for the next quarter,

b. Highlights of audit insights, recently completed work, ongoing work, and planned work for the next quarter, and

c. Highlights of investigative insights recently completed work, ongoing work, and planned oversight work for the next quarter.

4. Management Update Regarding Risk Management

5. Management Update Regarding IT Security Strategy

6. Briefing about Follow-up by the Office of Compliance and Enforcement on Referrals by the Office of Inspector General Regarding Audit Reports and Annual Financial Statement Audits of Grantees

7. Public Comment

8. Consider and Act on Other Business

9. Consider and Act on Motion to Adjourn the Open Session Meeting and Proceed to a Closed Session Meeting

Portions Closed to the Public

10. Approval of Minutes of the Committee's Closed Session Meeting on January 27, 2025

11. Briefing by Office Compliance and Enforcement on Active Enforcement Matter(s) and Follow-Up on Open Investigation Referrals from the Office of Inspector General

12. As Needed Briefing by LSC Management Regarding Significant Grantee Oversight Activities

13. Consider and Act on Motion to Adjourn the Meeting

Institutional Advancement Committee and Communications Subcommittee

Portions Open to the Public

1. Approval of Agenda

2. Approval of Minutes of the Institutional Advancement Committee's Open Session Meeting on January 23, 2025

3. Update on Leaders Council and Emerging Leaders Council

4. Development Report

5. Update on Civil Court Data Initiative

6. Communications and Social Media Update and Preview of Dynamic Strategic Communication Plan for 2025

7. Public Comment

8. Consider and Act on Other Business

9. Consider and Act on Motion to Adjourn the Open Session Meeting and Proceed to a Closed Session

Portions Closed to the Public

1. Approval of Minutes of the Institutional Advancement Committee's Closed Session Meeting on January 23, 2025

2. Development Report

3. Consider and Act on Motion to Approve Leaders Council and Emerging Leaders Council Invitees

4. Consider and Act on Other Business

5. Consider and Act on Motion to Adjourn the Meeting

Delivery of Legal Services Committee

Portions Open to the Public

1. Approval of Agenda

2. Approval of Minutes of the Committee's Open Session meeting on January 28, 2025

3. Update on LinkedIn Learning for Grant Recipient Staff and Board Members

4. LSC Performance Criteria Revisions Update & Timeline

5. Presentation on LSC Grantee Oversight and Compliance

6. Comments from Client Leadership Council

7. Public Comment

8. Consider and Act on Other Business

9. Consider and Act on Motion to Adjourn the Open Session Meeting and Proceed to a Closed Session Meeting

Portions Closed to the Public

10. Briefing on Service Area Configuration

11. Consider and Act on Motion to Adjourn the Meeting

Monday, April 7, 2025

Start Time 9:00 a.m. ET

Finance Committee

Portions Open to the Public

1. Approval of Agenda

2. Approval of the Minutes of the Committee's Open Session Meeting on January 27, 2025

3. Approval of the Minutes of the Committee's Closed Session Meeting on January 27, 2025

4. Discussion of LSC's FY 2025 Appropriation

5. Discussion of LSC's FY 2026 Appropriations Request

6. Discussion Regarding Process and Timetable for FY 2027 Budget Request

7. Presentation of LSC's Financial Report for the First Five Months of Fiscal Year 2025 (October 1, 2024-February 28, 2025)

8. Public Comment

9. Consider and Act on Other Business

10. Consider and Act on Motion to Adjourn the Meeting

Combined Audit & Finance Committees

Portions Open to the Public

1. Approval of Agenda

2. Presentation of Fiscal Year 2024 Annual Financial Audit

3. Consider and Act on Motion to Suspend the Open Session Meeting and Proceed to a Closed Session

Portions Closed to the Public

4. Management Briefing on Fiscal Year 2024 Annual Financial Audit

5. Opportunity to Ask Auditors Questions without Management Present

6. Communication by Corporate Auditor with those Charged with Governance Under Auditing Standard 114

7. Consider and Act on Motion to Adjourn the Closed Session Meeting and Resume the Open Session Meeting

Portions Open to the Public

8. Consider and Act on Resolution #2025-XXX, Acceptance of the Draft Audited Financial Statements for Fiscal Year 2024 and Fiscal Year 2023

9. Public Comment

10. Consider and Act on Other Business

11. Consider and Act on Motion to Adjourn the Meeting

Board of Directors

Portions Open to the Public

1. Pledge of Allegiance

2. Approval of Agenda

3. Approval of Minutes of the Board's Open Session Meeting on January 28, 2025

4. Consider and Act on Resolution #2025-XXX: In Memoriam of Alan Houseman

5. Consider and Act on Resolution #2025-XXX: In Memoriam of Herb Garten

6. Consider and Act on Resolution #2025-XXX: In Memoriam of Alex Forger

7. Chairman's Report

8. Members' Reports

9. President's Report

10. Inspector General's Report

11. Consider and Act on the Report of the Governance and Performance Committee (Meeting held March 24)

12. Consider and Act on the Report of the Operations and Regulations Committee (Meeting held March 31)

13. Consider and Act on the Report of the Audit Committee (Meeting held April 6)

14. Consider and Act on the Report of the Institutional Advancement Committee and Communications Subcommittee (Meeting held April 6)

15. Consider and Act on the Report of the Delivery of Legal Services Committee (Meeting held April 6)

16. Consider and Act on the Report of the Finance Committee (Meeting held April 7)

17. Consider and Act on the Report of the Combined Audit and Finance Committees (Meeting held April 7)

a. Consider and Act on Resolution #2025-XXX: Acceptance of Draft Audited Financial Statements for Fiscal Year 2024 and Fiscal Year 2023

18. Public Comment

19. Consider and Act on Other Business

20. Consider and Act on Whether to Authorize a Closed Session of the Board to Address Items Listed Below

Portions Closed to the Public

21. Approval of the Minutes of the Board's Closed Session Meeting on January 28, 2025

22. Management Briefing

23. Inspector General's Briefing

24. Consider and Act on Resolution #2025-XXX: Authorization to Modify LSC's Line of Credit Agreement (Fiscal Year 2025)

25. General Counsel's Report on Potential and Pending Litigation and Spending on Outside Legal Counsel

26. Consider and Act on Consider and Act on List of Prospective Leaders Council and Emerging Council Invitees

27. Consider and Act on Motion to Adjourn the Meeting

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: March 28, 2025.
Stefanie Davis,
Deputy General Counsel, Legal Services Corporation.

[FR Doc. 2025-05685 Filed 3-28-25; 4:15 pm]

BILLING CODE 7050-01-P